DEPARTMENT OF COMMERCE

National Oceanic and Atmospheric Administration Office of Oceanic and Atmospheric Research (OAR) National

See Grant Review Panel

AGENCY: Notice of Solicitation for Sea Grant Review Panelists.

SUMMARY: This notice responds to the National Sea Grant College Program Act, at 33 U.S.C. 1128, which requires the Secretary of Commerce to solicit nominations at least once a year for membership on the Sea Grant Review Panel. This advisory committee provides advice on the implementation of the National Sea Grant College Program.

DATES: Resumes should be sent to the address specified and must be received by November 13, 2001.

ADDRESSES: Dr. Ronald C. Baird, Director; National Sea Grant College Program; 1315 East-West Highway, Room 11716; Silver Spring, Maryland 20910.

FOR FURTHER INFORMATION CONTACT: Dr. Ronald Baird of the National Sea Grant College Program at the address given above; telephone (301) 713-2448 or fax number (301) 713-1031.

SUPPLEMENTARY INFORMATION: Section 209 of the Act establishes a Sea Grant Review Panel to advise the Secretary of Commerce, the Under Secretary for Oceans and Atmosphere, and the Director of the National Sea Grant College Program on the implementation of the Sea Grant Program. The Panel provides advice on such matters as:

(a) the Sea Grant Fellowship Program;

(b) applications or proposals for, and performance under, grants and contracts awarded under the Sea Grant Program Improvement Act of 12976, as amended at 33 U.S.C. 1124;

(c) the designation and operation of sea grant colleges and sea grant institutes; and the operation of the sea grant program;

(d) the formulation and application of the planning guidelines and priorities under 33 U.S.C. 1123(a) and (c)(1); and

(e) such other matters as the Secretary refers to the panel for review and advice.

The Panel is to consist of 15 voting members composed as follows: Not less than eight of voting members of the panel should be individuals who, by reason of knowledge, experience, or training, are especially qualified in one or more of the disciplines and fields included in marine science. The other voting members shall be individuals who by reason of knowledge, experience, or training, are especially qualified in, or representative of, education, extension service, state government, industry, economics, planning, or any other activity which is appropriate to, and important for, any effort to enhance the understanding, assessment, development, utilization, or conservation of ocean and coastal resources. No individual is eligible to be a voting members of the panel if the individual is (a) the director of a sea grant college, sea grant regional consortium, or sea grant program, (b) and applicant for or beneficiary (as determined by the Secretary) of any grant or contract under 33 U.S.C. 1124 or (c) a full-time officer or employee of the United States. The Director of the National See Grant College Program and one Director of a Sea Grant Program also serve as non-voting members. Panel members are appointed for a 3-year term.

Louisa Koch,
Deputy Assistant Administratior, Office of Oceanic and Atmospheric Research.

[FR Doc. 01-25635 Filed 10-11-01; 8:45 am]

BILLING CODE 3510-KA-M